ENVIRONMENTAL PROTECTION AGENCY

[FRL-6930-6]

Agency Information Collection Activities; Proposed Collection; Comment Request; 2001 Emergency Planning and Community Right-to-Know Act (EPCRA) and Risk Management Program (RMP) Implementation Status Questionnaire For Tribal Emergency Response Commissions (TERCs) and Their Duly Appointed Local Emergency Planning Committee(s) (LEPCs)

AGENCY: Environmental Protection Agency.

ACTION: Notice.

SUMMARY: In compliance with the paperwork Reduction Act (44 U.S.C. 3501 et seq.), this document announces that EPA is planning to submit the following proposed Information Collection Request (ICR) to the Office of Management and Budget (OMB): 2001 Emergency Planning and Community Right-to-Know Act (EPCRA) and Risk Management Program (RMP) Implementation Status Questionnaire for Tribal Emergency Response Commissions (TERCs) and Their Duly Appointed Local Emergency Planning Committee(s) (LEPCs), EPA ICR No. 2004.01. Before submitting the ICR to OMB for review and approval, EPA is soliciting public comments on specific aspects of the proposed information collection as described below.

DATES: Written comments must be submitted to the person and address listed below and postmarked on or before March 12, 2001. Unless adverse comments are received by EPA by the above date, EPA will proceed with its submittal of the ICR to OMB as indicated above.

ADDRESSES: United States Environmental Protection Agency, Region IX, ATTN: Sam Agpawa, EPCRA/CEPP Team, Superfund Division, 75 Hawthorne St. Mail stop: SFD-1-2, San Francisco, CA 94105.

FOR FURTHER INFORMATION CONTACT: Sam Agpawa at (415) 744-2342 or E-mail at agpawa.sam@epa.gov

SUPPLEMENTARY INFORMATION: Affected entities: Entities potentially affected by this action are emergency planning organizations or units of Federally recognized Indian tribes, reservations, rancherias and colonies, each of which may be considered a “small entity,” located within the state boundaries of Arizona, California and Nevada and including the Navajo Nation whose lands extend into New Mexico, Utah and Colorado. Therefore, establishing different requirements or exemptions from coverage is not practicable. However, EPA will make every effort to minimize the “burden on persons who shall provide information.” This will be accomplished by ensuring that the questionnaire is as concise as practicable, that the instructions clarify the respondent's burden, and that the survey questions are simple to answer with information that is readily available to the respondent either through the Agency or the Public domain.

The perception of burden is inherently reduced by the fact that participation in this information collection is voluntary, which will be clearly stated within the contents of the survey questionnaire, within any accompanying promulgation letter or at, and during, any EPA sponsored survey introductory event. The survey packet will be mailed, in accordance with protocol, to the principal officer of each tribal entity as listed in a comprehensive mailing roster developed by EPA Region IX.

Title: 2001 Emergency Planning and Community Right-to-Know Act (EPCRA) and Risk Management Program (RMP) Implementation Status Questionnaire for Tribal Emergency Response Commission(s) (TERCs) and Their Duly Appointed Local Emergency Planning Committee(s) (LEPCs).

Abstract: The Environmental Protection Agency, Region IX, Superfund Division, proposes to conduct a Regional survey of the Tribal Emergency Response Commissions (TERCs). The information collected in this survey will be used to assess the progress, status, needs, resources and activity level of TERCs. The information will be used by EPA Region IX staff to gain a better understanding of EPA Region IX tribes' actual implementation of EPCRA and RMP.

The Emergency Planning and Community Right-to-Know Act of 1986 (EPCRA), also known as SARA title III, and Risk Management Program (RMP) under the Clean Air Act, 1990, section 112(r) and 40 CFR part 68, June 20, 1996, introduced fundamental changes in the regulation of chemical facilities and the prevention of and preparedness for chemical accidents. These laws and rules seek to improve emergency preparedness and reduce the risk of chemical accidents by providing information to citizens about the chemicals in their community.¹ EPCRA is premised on the concept that the more informed local citizens are about chemical hazards in their communities, the more involved they will be in prevention and preparedness activities. For this “informational regulation” to be effective, the public must receive accurate and reliable information, which is easy to understand and practical to use. EPCRA, in conjunction with the RMP requirements, sought to create partnerships between all levels of government, tribal governments, and the regulated tribal community to identify, prevent, plan, prepare and respond to hazardous material risks in our communities, including tribal lands, reservations, rancherias and colonies. The purpose of this survey is to obtain input from these organizations to improve Region IX's EPCRA and RMP programs.

¹ EPA Published a rule-making in the Federal Register on July 26, 1990 designating Indian Tribes and their chief executive officers as the implementing authority for EPCRA on all Indian Lands.

The key obligations of each of the EPCRA partners include the following.² EPCRA regulations under the July 26, 1990 rule making, require that tribes establish a TERC and that the tribal leader appoint the membership of the TERC. The TERC is responsible for determining whether LEPCs will be appointed. If LEPCs are appointed, the TERC is responsible for determining the number of emergency planning districts within the tribal community, appointing a Local Emergency Planning Committee (LEPC) for each district, and supervising and coordinating the activities of LEPCs. Every facility on Tribal lands subject to EPCRA (including any Federal installation(s)) is required to submit annual chemical inventory reports to their TERC, LEPC and the tribal or cooperative local Fire Departments. Upon release of a hazardous substance into the environment, immediate notification must be made to the TERC and LEPC and, if a CERCLA hazardous substance, to the National Response Center (NRC) with written follow-up notification to the TERC and LEPC. Information on chemical inventories and releases is to be made available to the public upon request.³

² Because of trival sovereignty, EPCRA guidelines include Indian tribes within the definition of states. They specify that the chief executive officer of the tribe, the tribal leader, will have the same responsibilities as a state governor for developing and implementing the chemical emergency response system.

³ The Governor's Office of Emergency Services (OES) has traditionally served as point of contact for TERC in California under EPCRA.

The intent of section 112(r) of the Clean Air Act as amended 1990, is to prevent accidental releases to the air and mitigate the consequences of such releases by focusing prevention measures on chemicals that pose the greatest risk to the public and the environment. The section also mandates that EPA promulgate a list of regulated substances. Coupled with that listing, section 112(r) requires EPA to promulgate regulations and develop guidance to prevent, detect and respond to accidental releases. Stationary Sources covered by these regulations must develop and implement a risk management program that includes a hazard assessment, a prevention program and an emergency response program. It is the development of the latter that is of vital importance to all tribal communities as well as the public at large. Regardless of the lack of any stationary sources on or within a tribal community, that community must develop an emergency response and notification program that addresses any eventual emergency resulting from natural, accidental or intentional causes and disasters. It is the intention of the survey to help provide relevant information to EPA regarding the level of emergency response capabilities of respondent tribes. The information will be primarily used to assess and determine the extent of EPA guidance, training and technical assistance to tribes on a tribe-by-tribe basis. EPA's role has been to provide guidance and assistance to TERCs, LEPCs, emergency responders, the tribal community and the public as well as take enforcement action against those who violate EPCRA requirements. In keeping with EPA's Tribal Trust Responsibility , EPA has awarded grant monies to the Tribes and has provided technical, programmatic and legal support to various tribes. In particular, EPA Region IX has provided regulatory, CAMEO and other training to the Region's tribal emergency response programs and continues to support a variety of EPCRA and RMP related projects initiated by several tribal communities as part of the General Assistance and other similar grant programs.

The primary goals of the research effort described within this Notice are to: (1) Evaluate the status of Tribal Emergency Planning and response programs, TERCs, district LEPCs and respective tribal or cooperative emergency response parties; and (2) probe current TERC and LEPC practices and preferences regarding several important sets of issues—particularly including communications with tribal community citizens, proactive accident prevention efforts, and the effectiveness of selected EPA Region IX products and services including the expenditure of federal program resources, contractors, training, enforcement and grants. It is EPA's desire to improve its customer service and to meet the changing needs of hazardous material prevention and emergency response planning, which are influenced by new electronic capabilities and a rapidly expanding knowledge base of environmental issues.

An effort will be made to survey all Region IX's TERCs and LEPCs (approximately 145 tribes). Introductory letters will be sent to an inclusive list of tribal environmental officers. The letter will describe the purpose of the survey and request that the tribe participate by mailing either a complete hard copy or an electronic copy in an envelope provided by EPA Region IX. EPA Region IX will receive the written submissions and compile the data.

Tribes are cautioned that an agency may not conduct or sponsor (and a person is not required to respond to) a collection of information unless the document displays, in a clearly visible manner, a current and valid Office of Management and Budget (OMB) control number. OMB control numbers for EPA's regulations and notices are listed in the Code of Federal Register, 40 CFR part 9 and 48 CFR Chapter 15.

The intended survey questionnaire was initially formulated by a voluntary Regional Tribal Operational Committee (RTOC) workgroup comprised of seven (7) members: Five (5) members from various Region IX tribes and two (2) EPA advisors.⁴ Although the survey's concept, content and format was reviewed and approved by a Tribal coalition advisory group, the Regional Tribal Operational Committee (whose members are representative of federally recognized tribes in Region IX) on October 25, 2000, EPA encourages comments to:

⁴ The resulting questionnaire, with minor modifications, is similar to an earlier EPA survey distributed to state SERC's and LEPCs within EPA Regioin IX (as described in Federal Register document published on May 14, 1999, 64 FR 26405).

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information to be collected; and

(iv) Minimize the burden of the collection of information on those who are to respond, including through the use of appropriate automated electronic, mechanical, or other technological collection techniques or other forms of information technology, e.g. permitting electronic submission of responses. In instances where tribes lack computer access, responses will be requested in hard copy.

Burden Statement

It is estimated that there will be approximately 145 tribal respondents to the Questionnaire and survey described within this notice. In accordance with Federal Law, the agency is required to estimate any burden incurred by the respondents to maintain records, transmit or disclose information to parties other than the implementing agency. It is not anticipated that any third party or parties will be involved, thus, there will be no third party burden. Any estimate and identification of burden will rely on the voluntary response by each respondent. EPA estimates a total response burden of two (2) hours per participant. Labor costs for responding is estimated at $28.00 per hour, based on the “Employer Cost for Employment Compensation” (Bureau of Labor and Statistics, March 1999). There is no need for “developing, acquiring or utilizing technology systems for the purpose of collecting, validating or verifying information,” “disclosing and providing information,” “adjusting the existing ways to comply with any previous applicable instructions or requirements,” “training personnel to be able to respond to a collection of information,” “searching data sources,” nor a need for respondents to keep records.” Burden activities include only a few steps: Reading or listening to instructions, reading or listening to survey questions and responding to survey questions. The average cost per respondent is estimated at $56.00.

No capital expenditures are needed by the respondent to complete the survey.

No operating and maintenance costs (on-going non-wage expenditures) are needed to complete the survey. Also, there are no capital or start-up costs.

To perform EPA's activities for the survey, EPA estimates that 80 hours of a federal employee at the Grade level GS-13, Step 1 level will be needed, at an hourly wage of $51.60. This estimate is based on the 2000 General Services Annual Pay Schedule divided by 2,080 hours per year and multiplied by 1.6 (standard government benefits multiplication factor). EPA estimates that the federal employee will work 4.6% of the employee's time on this project during the life of the survey (48 weeks) or approximately 88 hours (1,920 hours x .046), for an estimated cost to manage the project of $4,540.80.

EPA will be assisted in the survey by a contractor. The budget period is for 12 months. Funding covers: Survey design and planning; data collection and processing. EPA estimates that the contractor, Science Applications International Corporation, will require an estimated total of 183 labor hours and $10,000.

EPA estimates that 145 respondent tribes will voluntarily respond to the survey at a total burden of 290 hours and a total cost of $8120.00. It is estimated that the average respondent burden is two (2) hours per response at a total cost of $56.00 per response, including the time for reviewing, gathering and processing the information and completing and reviewing the collection of information. Burden means the total time, effort, or financial resources expended by persons to generate, maintain, retain, or disclose or provide information to or for a Federal agency.

Dated: January 3, 2001.
Michael Feeley,
Deputy Director, Superfund Division, Region IX.

[FR Doc. 01-694 Filed 1-9-01; 8:45 am]

BILLING CODE 6560-50-U